DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by December 18, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number, and the agency informs potential persons who are to respond to the collection of information that such persons are not required to respond to the collection of information unless it displays a currently valid OMB control number.

Animal and Plant Health Inspection Service

Title: National Veterinary Accreditation Program Application Form.

OMB Control Number: 0579-0297.

Summary of Collection: The Animal Health Protection Act, (APHA) of 2002 is the primary Federal law governing the protection of animal health. The APHA is contained in 7 U.S.C. 8301, et seq., and were created the Farm Security and Rural Investment Act of 2002. The law gives the Secretary of Agriculture broad authority to detect, control, or eradicate pests or diseases of livestock or poultry. The Animal and Plant Health Inspection Service (APHIS) is the agency charged with carrying out this disease prevention mission. For APHIS to conduct all its disease prevention tasks, it utilizes APHIS-certified private veterinarians to work cooperatively with Federal and State animal health authorities on the Agency's behalf. These veterinarians obtain their certification through the APHIS National Veterinary Accreditation Program (NVAP) which has an application and renewal process.

Need and Use of the Information: APHIS will use VS form 1-36A, National Veterinary Accreditation Program Application Form to collect information to certify private veterinarians to work Federal and State animal health authorities to prevent disease and carry out disease surveillance on USDA's behalf. Applicants may appeal denial, revocation, or suspension of accredited status. The written appeal is prepared in letter format and signed by the denied veterinarian. If information from accredited veterinarians was collected less frequently or not collected, APHIS would lose access to professional and demographic data for more than 70,000 cooperators, and APHIS coverage of veterinary, plant, and agricultural activities would be proportionately reduced.

Description of Respondents: Business or other for-profit.

Number of Respondents: 24,820.

Frequency of Responses: Reporting: On occasion.

Total Burden Hours: 9,929.

Ruth Brown,
Departmental Information Collection Clearance Officer.

[FR Doc. 2023-25302 Filed 11-15-23; 8:45 am]

BILLING CODE 3410-34-P